DEPARTMENT OF HOMELAND SECURITY

Coast Guard

[USCG-2005-21610]

Nontank Vessel Oil Response Plans

AGENCY: Coast Guard, DHS.

ACTION: Notice and Request for Comments.

SUMMARY: This notice informs the public of issues related to recent legislation requiring owners and operators of nontank vessels to prepare plans for responding to discharges of oil from their vessels. These issues include questions on the size of the population of vessels affected and enforcement of the legislation by the Coast Guard. The notice also discusses Coast Guard's efforts to engage the regulated community at the earliest stages and to encourage early public participation in the process of responding to this new legislation.

DATES: Comments and related material must reach the Docket Management Facility on or before September 22, 2005.

ADDRESSES: You may submit comments identified by Coast Guard docket number USCG-2005-21610 to the Docket Management Facility at the U.S. Department of Transportation. To avoid duplication, please use only one of the following methods:

(1) Web site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

FOR FURTHER INFORMATION CONTACT: If you have questions on this notice, please contact Lieutenant Eric A. Bauer, Project Manager, Office of Response (G-MOR-2), U.S. Coast Guard Headquarters, telephone 202-267-6714. If you have questions on viewing or submitting material to the docket, call Ms. Andrea M. Jenkins, Program Manager, Docket Operations, telephone 202-366-0271.

SUPPLEMENTARY INFORMATION:

Background and Purpose

The Coast Guard and Maritime Transportation Act of 2004 (Pub. L. 108-293) (2004 Act), in section 701, requires owners and operators of nontank vessels to prepare and submit to the Coast Guard plans for responding to a worst case discharge, and to a substantial threat of such a discharge, of oil from their vessels. The 2004 Act also mandates that the Coast Guard issue regulations requiring the submission of the plans. This legislation raises the following questions.

1. What is the size of the affected vessel population? One issue raised by the 2004 Act significantly affects the size of the population of vessels subject to the Act. The Act defines a “nontank vessel” as a self-propelled vessel of 400 gross tons as measured under 46 U.S.C. 14302 (the Convention measurement system) or greater, other than a tank vessel, that carries oil of any kind as fuel for main propulsion and that is a vessel of the United States or that operates on the navigable waters of the United States. Accordingly, the Act applies to vessels that are 400 gross tons as measured under 46 U.S.C. 14302 and to vessels that would be 400 gross tons if measured under 46 U.S.C. 14302. The Act does not specify how it applies to vessels which do not have a current measurement under the Convention measurement system (i.e., those vessels measured only under the regulatory measurement system under 46 U.S.C. 14502). It is unclear whether any relationship was intended between a vessel's tonnage and the quantity of oil it is capable of carrying. These are issues that must be addressed during the rulemaking process and on which we particularly welcome your advice.

2. When will the 2004 Act be enforced by the Coast Guard? The 2004 Act requires that the response plans be prepared and submitted by August 9, 2005 (i.e., one year after the enactment of the 2004 Act). In addition, the Act requires the President (Coast Guard) to issue regulations requiring the submission of plans. Because of the length of time needed to provide the necessary opportunity for, and consideration of, public comments, final regulations may not be in effect on that date. This raises the question of whether the Coast Guard intends to enforce the Act—specifically the nontank vessel response plan submission requirement—if it does not have regulations in place on August 9, 2005. The Coast Guard will not enforce the Act until regulations are issued and in effect.

3. What is the Coast Guard doing in the interim? On February 4, 2005, we published Navigation and Vessel Information Circular 01-05 (NVIC 01-05) entitled “Interim Guidance for the Development and Review of Response Plans for Nontank Vessels.” The NVIC is available at http://www.uscg.mil/hg/g-m/nvic or in the docket for this notice (See “Viewing comments and documents” below.). It provides guidance to owners and operators of nontank vessels for preparing and submitting plans to the Coast Guard and is not itself enforceable by the Coast Guard.

NVIC 01-05 describes a voluntary process for submitting response plans and for obtaining interim authorization letters from the Coast Guard. As the issue of vessel population is yet to be resolved, the NVIC explains that the Act does not exempt vessels that have not been measured under the Convention measurement system. These vessels are referred to in the NVIC as those that have not been issued an International Tonnage Certificate (ITC). However, an ITC is not always issued when a vessel is measured under the Convention measurement system; a U.S. Tonnage Certificate may be used instead to reflect tonnage measurement under the Convention measurement system. The Coast Guard considers owners of vessels not measured under the Convention measurement system subject to the Act if there is no question that the vessel would be 400 gross tons if measured under 46 U.S.C. 14302. To be prudent, we would advise owners of vessels not measured under the Convention measurement system that a vessel's tonnage measured under the regulatory measurement system is generally less than that vessel's tonnage measured under the Convention system. Therefore, it is likely that vessels of or near 400 gross register tons when measured under the regulatory measurement system will be subject to the response plan requirements of the Act. Disparities between the two measurement systems and the applicability of the Act to vessels measured under the regulatory measurement system would need to be addressed during the rulemaking process. Although we will not know precisely which vessels must comply with the response plan requirements until rulemaking is complete, vessels not measured under the Convention measurement system, whether they are 400 gross register tons under the regulatory measurement system or not, may ultimately be covered under the regulations. Therefore, vessel owners and operators who want to secure interim authorization letters because they believe their vessels may be covered by the response plan regulations are highly encouraged to use the voluntary interim authorization process under NVIC 01-05.

Request for Comments

This notice, as well as the NVIC, is part of the Coast Guard's effort to engage the public at the outset of our efforts to carry out the response plan provisions of the 2004 Act. Therefore, we encourage you to submit comments on this notice and on the subject in general that it addresses. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2005-21610) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. We will consider all comments received during the comment period.

Viewing comments and documents: To view comments, go to http://dms.dot.gov at any time and conduct a “Simple Search” using the docket number. You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Dated: June 20, 2005.
T.H. Gilmour,
Rear Admiral, U.S. Coast Guard, Assistant Commandant for Marine Safety, Security and Environmental Protection.

[FR Doc. 05-12541 Filed 6-23-05; 8:45 am]

BILLING CODE 4910-15-P